FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Phuong Cong La dba United Harbour Logistics, 2023 Johnston Street, Los Angeles, CA 90031, Officer: Phuong Cong La, Owner, (Qualifying Individual).

Profes NWFS, Inc. dba New World Freight, System; Cargo Alliance Service, 1071 Sneath Lane, San Bruno, CA 94066, Officers: Young S. Sue, CFO, (Qualifying Individual), Yeau M. Yoon, President.

Cargo World LLC, 111-115 Frank E. Rodgers Blvd. C., Ste. 303, Harrison, NJ 07029, Officers: Nelson Liu, Member/Manager, (Qualifying Individual).

FedEx Trade Networks Transport & Brokerage, 223 Hing Fong Road, Kwai Fong Tower 1, Metroplaza, Units 801-10 & 23-25 Level 8, New Territories, China, Officer: George E. Clark, President, (Qualifying Individual).

Taurus International Logistics, Inc., dba Taurus International Consolidators, 1560 Sawgrass Corporate Parkway, Ste. 420, Sunrise, FL 33323, Officers: Carlos Gutierrez, Vice President, (Qualifying Individual), Victoria P. Buitano, Director.

Non-Vessel Operating Common Carrier and Ocean Freight Forwarder Transportation Intermediary Applicants

Titan International Logistics, LLC, 16905 Keegan Ave., Carson, CA 90746, Officers: Howard Smith, Member/Manager, (Qualifying Individual), Christopher Lemire, Member/Manager.

JAEMAR International Inc., 5810 Star Lane, Houston, TX 77057, Officer: Janette M. Marlowe, President, (Qualifying Individual).

LQ Logistic Inc., 820 S. Garfield Ave., Ste. 202, Alhambra, CA 91801, Officers: Eric G. Qian, CEO, (Qualifying Individual), Christin Y. Liu, President.

Unitor Ships Service, Inc., 9400 New Century Drive, Pasadena, TX 77507, Officers: Craig Toomey, Vice President, (Qualifying Individual), Colin P. Hatton, President.

Ocean Freight Forwarder—Ocean Transportation Intermediary Applicant

Bosmak, Inc. dba Ocean Breeze Shipping, 2501 Harford Road, Ste. 201, Baltimore, MD 21213, Officers: Steve O. Onyilokwu, President, (Qualifying Individual), Beatrice O. Onyilokwu, Secretary.

Dated: February 1, 2008.
Karen V. Gregory,
Assistant Secretary.

[FR Doc. E8-2218 Filed 2-6-08; 8:45 am]

BILLING CODE 6730-01-P